DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before August 19, 2009. Address written comments to Statutory Import Programs Staff, Room 3720, U.S. Department of Commerce, Washington, D.C. 20230. Applications may be examined between 8:30 A.M. and 5:00 P.M. at the U.S. Department of Commerce in Room 3720.

Docket Number: 09-019. Applicant: University of Oklahoma, Mewbourne School of Petroleum and Geological Engineering, 100 E Boyd St., Suite T-301, Norman, OK 73019. Instrument: Electron Microscope. Manufacturer: FEI Company, the Netherlands. Intended Use: The instrument will be used to study the three dimensional nano-pore structure of geologic material. Justification for Duty-Free Entry: No instruments of same general category are manufactured in the United States. Application accepted by Commissioner of Customs: July 1, 2009.

Docket Number: 09-027. Applicant: National Renewable Energy Laboratory, 1617 Cole Blvd., Golden, GO 80401. Instrument: Electron Microscope. Manufacturer: FEI Company, Czech Republic. Intended Use: The instrument will be used to characterize the crystallography and structural morphology of materials used in the development of photovoltaic (solar cell) semiconductor devices. It will also be used in the analysis of a variety of nano-structured materials. Justification for Duty-Free Entry: No instruments of same general category are manufactured in the United States. Application accepted by Commissioner of Customs: May 18, 2009.

Docket Number: 09-042. Applicant: Temple University Hospital, 3401 N. Broad St., 2nd Floor, Zone A, Philadelphia, PA 19140. Instrument: Electron Microscope. Manufacturer: JEOL, Japan. Intended Use: The instrument will be used to perform ultrastructural analysis of the components in the diagnosis of renal diseases. Specifically it will be used to identify certain genetic diseases that alter cellular structural proteins. Justification for Duty-Free Entry: No instruments of same general category are manufactured in the United States. Application accepted by Commissioner of Customs: July 2, 2009.

Docket Number: 09-043. Applicant: University of Central Florida, 4000 Central Florida Blvd. MAP 310, Orlando, FL 32816. Instrument: Electron Microscope. Manufacturer: Tescan, s.r.o., Czech Republic. Intended Use: The instrument will be used to study the properties of sp2-bonded nanostructures with unusual mechanical, electrical and thermal properties, such as those composed of boron, carbon and nitrogen. Justification for Duty-Free Entry: No instruments of same general category are manufactured in the United States. Application accepted by Commissioner of Customs: July 16, 2009.

Docket Number: 09-044. Applicant: Missouri State University, 901 S. National Ave., Springfield Missouri 65897. Instrument: Electron Microscope. Manufacturer: FEI Company, Czech Republic. Intended Use: The instrument will be used to study the correlations between morphology, structures and compositions of various materials as well as their electrical, optical, magnetic and biological properties. Justification for Duty-Free Entry: No instruments of same general category are manufactured in the United States. Application accepted by Commissioner of Customs: July 16, 2009.

Dated: July 24, 2009.
Gregory Campbell,
Acting Director, IA Subsidies Enforcement Office.

[FR Doc. E9-18236 Filed 7-29-09; 8:45 am]

BILLING CODE 3510-DS-S